DEPARTMENT OF THE INTERIOR

The Bureau of Ocean Energy Management, Regulation and Enforcement

Environmental Documents Prepared for Proposed Oil, Gas, and Mineral Operations by the Gulf of Mexico Outer Continental Shelf (OCS) Region

AGENCY: The Bureau of Ocean Energy Management, Regulation and Enforcement, Interior.

ACTION: Notice of the availability of environmental documents prepared for OCS mineral proposals by the Gulf of Mexico OCS Region.

SUMMARY: The Bureau of Ocean Energy Management, Regulation and Enforcement (BOEMRE), in accordance with Federal Regulations that implement the National Environmental Policy Act (NEPA), announces the availability of NEPA-related Site-Specific Environmental Assessments (SEA) and Findings of No Significant Impact (FONSI), prepared by BOEMRE for the following oil-, gas-, and mineral-related activities proposed on the Gulf of Mexico.

FOR FURTHER INFORMATION CONTACT: Public Information Unit, Information Services Section at the number below. Bureau of Ocean Energy Management, Regulation and Enforcement, Gulf of Mexico OCS Region, Attention: Public Information Office (MS 5034), 1201 Elmwood Park Boulevard, Room 250, New Orleans, Louisiana 70123-2394, or by calling 1-800-200-GULF.

SUPPLEMENTARY INFORMATION: BOEMRE prepares SEAs and FONSIs for proposals that relate to exploration, development, production, and transport of oil, gas, and mineral resources on the Federal OCS. These SEAs examine the potential environmental effects of activities described in the proposals and present BOEMRE conclusions regarding the significance of those effects. Environmental Assessments are used as a basis for determining whether or not approval of the proposals constitutes a major Federal action that significantly affects the quality of the human environment in accordance with NEPA Section 102(2)(C).

A FONSI is prepared in those instances where BOEMRE finds that approval will not result in significant effects on the quality of the human environment. The FONSI briefly presents the basis for that finding and includes a summary or copy of the SEA.

This notice constitutes the public notice of availability of environmental documents required under the NEPA Regulations.

Activity/Operator | Location | Date
Chevron U.S.A., Inc., Structure Removal, SEA ES/SR 08-018 | Green Canyon, Block 06, Lease OCS-G 06987, located 123 miles from the nearest Louisiana shoreline | 6/7/2010
Hunt Oil Company, Structure Removal, SEA ES/SR 10-092 | East Cameron, Block 63, Lease OCS-G 22574, located 23 miles from the nearest Louisiana shoreline | 6/18/2010
Devon Energy Production Company, LP, Structure Removal, SEA ES/SR 10-090 & 10-091 | Eugene Island, Block 330, Lease OCS-G 02115, located 82 miles from the nearest Louisiana shoreline | 6/18/2010
Walter Oil & Gas Corporation, Structure Removal, SEA ES/SR 10-067 | Galveston, Block 239, Lease OCS-G 09032, located 22 miles from the nearest Texas shoreline | 6/18/2010
Apache Corporation, Structure Removal, SEA ES/SR 10-078 | South Marsh Island, Block 33, Lease OCS 00780, located 43 miles from the nearest Louisiana shoreline | 6/18/2010
Samson Contour Energy E&P, LLC., Structure Removal, SEA ES/SR 10-094 | Vermillion, Block 218, Lease OCS-G 01142, located 58 miles from the nearest Louisiana shoreline | 6/18/2010
EOG Resources, Inc., Structure Removal, SEA ES/SR 10-093 | Viosca Knoll, Block 31, Lease OCS-G 07870, located 26 miles from the nearest Alabama shoreline | 6/18/2010
Linder Oil Company, Structure Removal, SEA ES/SR 09-005A | East Cameron, Block 245, Lease OCS-G 00970, located 80 miles from the nearest Louisiana shoreline | 6/19/2010
SPN Resources, LLC., Structure Removal, SEA ES/SR 10-098 | East Cameron, Block 330, Lease OCS-G 03540, located 102 miles from the nearest Louisiana shoreline | 6/19/2010
EOG Resources, Inc., Structure Removal, SEA ES/SR 10-085 | Viosca Knoll, Block 124, Lease OCS-G 08770, located 23 miles from the nearest Alabama shoreline | 6/19/2010
McMoRan Oil & Gas, LLC, Structure Removal, SEA ES/SR 10-081 | West Cameron, Block 426, Lease OCS-G 23596, located 73 miles from the nearest Louisiana shoreline | 6/19/2010
McMoRan Oil & Gas, LLC., Structure Removal, SEA ES/SR 10-102 | West Cameron, Block 522, Lease OCS-G 14340, located 95 miles from the nearest Louisiana shoreline | 6/19/2010
Maritech Resources, Inc., Structure Removal, SEA ES/SR 10-028 | West Cameron, Block 630, Lease OCS-G 02560, located 119 miles from the nearest Louisiana shoreline | 6/19/2010
McMoRan Oil & Gas, LLC., Structure Removal, SEA ES/SR 10-099 | West Cameron, Block 639, Lease OCS-G 02027, located 123 miles from the nearest Louisiana shoreline | 6/19/2010
HC Resources, LLC, Structure Removal, SEA ES/SR 10-086 & 10-087 | Chandeleur, Block 37, Lease OCS-G 10917, located 35 miles from the nearest Louisiana shoreline | 6/28/2010
Merit Energy Company, Structure Removal, SEA ES/SR 10-105 | Matagorda Island, Block 704, Lease OCS-G 10203, located 34 miles from the nearest Texas shoreline | 6/30/2010
Chevron U.S.A., Inc., Structure Removal, SEA ES/SR 10-095 | Ship Shoal, Block 169, Lease OCS-G 00820, located 28 miles from the nearest Louisiana shoreline | 7/1/2010
McMoRan Oil & Gas, LLC, Structure Removal, SEA ES/SR 10-103 | Vermilion, Block 156, Lease OCS-G 21597, located 40 miles from the nearest Louisiana shoreline | 7/1/2010
McMoRan Oil & Gas, LLC, Structure Removal, SEA ES/SR 10-064 | West Cameron, Block 648, Lease OCS-G 22411, located 126 miles from the nearest Louisiana shoreline | 7/1/2010
Nippon Oil Exploration U.S.A. Limited, Structure Removal, SEA ES/SR 10-100 & 10-101 | South Marsh Island, Block 243, Lease OCS-G 02595, located 15 miles from the nearest Louisiana shoreline | 7/2/2010
Merit Energy Company, LLC, Structure Removal, SEA ES/SR 10-088 | Vermilion, Block 385, Lease OCS-G 24861, located 104 miles from the nearest Louisiana shoreline | 7/2/2010
BP Exploration & Production, Inc., Revised Exploration Plan, SEA R-5055 AA | Mississippi Canyon, Block 252, Lease OCS-G 32306, located in the Central Planning Area of the Gulf of Mexico, 48 miles offshore, south of Plaquemines Parish, Louisiana | 7/10/2010
Chevron U.S.A., Inc., Structure Removal, SEA ES/SR 10-106 | High Island, Block A 555, Lease OCS-G 02384, located 95 miles from the nearest Texas shoreline | 7/12/2010
Ridgelake Energy, Inc., Structure Removal, SEA ES/SR 10-084 | High Island, Block A567, Lease OCS-G 17202, located 116 miles from the nearest Texas shoreline | 7/12/2010
Chevron U.S.A., Inc., Structure Removal, SEA ES/SR 10-097 | South Timbalier, Block 130, Lease OCS 00456, located 28 miles from the nearest Louisiana shoreline | 7/12/2010
Seneca Resources Corporation, Structure Removal, SEA ES/SR 09-221A & 09-222A | Vermilion, Block 309, Lease OCS-G 16310, located 74 miles from the nearest Louisiana shoreline | 7/12/2010
Mariner Energy, Inc., Structure Removal, SEA ES/SR 06-031 A | Eugene Island, Block 314, Lease OCS-G 01981, located 78 miles from the nearest Louisiana shoreline | 7/22/2010
Anadarko E&P Company LP, Structure Removal, SEA ES/SR 03-070A | Eugene Island, Block 296, Lease OCS-G 02105, located 210 miles from the nearest Louisiana shoreline | 7/23/2010
Apache Corporation, Structure Removal, SEA ES/SR 09-223 | Eugene Island, Block 296, Lease OCS-G 02105, located 71 miles from the nearest Louisiana shoreline | 7/23/2010
El Paso E&P Company, L.P., Structure Removal, SEA ES/SR 10-108 | South Timbalier, Block 212, Lease OCS-G 14538, located 52 miles from the nearest Louisiana shoreline | 7/23/2010
El Paso E&P Company, L.P., Structure Removal, SEA ES/SR 10-110 | West Cameron, Block 150, Lease OCS 00254, located 24 miles from the nearest Louisiana shoreline | 7/23/2010
Tana Exploration Company, LLC, Structure Removal, SEA ES/SR 10-007 A | East Cameron, Block 271, Lease OCS-G 27050, located 90 miles from the nearest Louisiana shoreline | 7/24/2010
Apache Corporation, Structure Removal, SEA ES/SR 10-023 | West Cameron, Block 615, Lease OCS-G 15118, located 138 miles from the nearest Louisiana shoreline | 7/24/2010
Callon Petroleum Operating Company, Structure Removal, SEA ES/SR 10-112 | East Cameron, Block 268, Lease OCS-G 25967, located 80 miles from the nearest Louisiana shoreline | 7/28/2010
Chevron U.S.A. Inc., Structure Removal, SEA ES/SR 10-096 | Eugene Island, Block 230, Lease OCS-G 00979, located 46 miles from the nearest Louisiana shoreline | 7/30/2010
GOM Shelf LLC, Structure Removal, SEA ES/SR 10-26A | Matagorda Island, Block 586, Lease OCS-G 14791, located 24 miles from the nearest Texas shoreline | 7/30/2010
El Paso E&P Company, L.P., Structure Removal, SEA ES/SR 10-107 | Ship Shoal, Block 278, Lease OCS-G 15297, located 53 miles from the nearest Louisiana shoreline | 7/30/2010
Pioneer Natural Resources USA, Inc., Structure Removal, SEA ES/SR 10-109 | Brazos, Block A39, Lease OCS-G 04559, located 51 miles from the nearest Texas shoreline | 8/2/2010
Helis Oil & Gas Company, L.L.C., Structure Removal, SEA ES/SR 10-111 | Galveston, Block 227, Lease OCS-G 21322, located 22 miles from the nearest Texas shoreline | 8/2/2010
GOM Shelf LLC, Structure Removal, SEA ES/SR 10-030A | Matagorda Island, Block 633, Lease OCS-G 06042, located 15 miles from the nearest Texas shoreline | 8/5/2010
Apache Corporation, Structure Removal, SEA ES/SR 08-051A | East Cameron, Block 336, Lease OCS-G 03388, located 106 miles from the nearest Louisiana shoreline | 8/12/2010
GOM Shelf LLC, Structure Removal, SEA ES/SR 10-033A | Matagorda Island, Block 588, Lease OCS-G 18782, located 18 miles from the nearest Texas shoreline | 8/12/2010
Apache Corporation, Structure Removal, SEA ES/SR 09-085A | Mustang Island, Block 757, Lease OCS-G 03019, located 28 miles from the nearest Texas shoreline | 8/13/2010
Shell Offshore, Inc., Geological & Geophysical Survey, SEA L10-027 | Located in the Central Gulf of Mexico Area, 120 miles south of Intracoastal City, Louisiana | 8/16/2010
Apache Corporation, Structure Removal, SEA ES/SR 10-079A | Mustang Island, Block 787, Lease OCS-G 11221, located 26 miles from the nearest Texas shoreline | 8/18/2010
Sojitz Energy Venture, Inc., Structure Removal, SEA ES/SR 10-029 | Mississippi Canyon, Block 486, Lease OCS-G 06957, located 42 miles from the nearest Louisiana shoreline | 8/19/2010
Energy Resource Technology GOM, Inc., Well Conductor Removal, SEA APM EC346-006 | East Cameron, Block 346, Lease OCS-G 06655, located 103 miles from the nearest Louisiana shoreline | 8/25/2010
Energy XXI GOM, LLC, Structure Removal, SEA ES/SR 10-035 | High Island, Block A-356, Lease OCS-G 02746, located 100 miles from the nearest Texas shoreline | 8/26/2010
Chevron U.S.A. Inc., Well Conductor Removal, SEA APM ST131-L001 | South Timbalier, Block 131, Lease OCS 00457, located 28 miles from the nearest Louisiana shoreline | 8/26/2010
W & T Offshore, Inc., Structure Removal, SEA ES/SR 10-119 | East Cameron, Block 368, Lease OCS-G 16273, located 92 miles from the nearest Louisiana shoreline | 8/30/2010
Energy Partners, Ltd., Well Conductor Removal, SEA APM EC378-003 | East Cameron, Block 378, Lease OCS-G 12856, located 107 miles from the nearest Louisiana shoreline | 8/30/2010
Forest Oil Corporation, Structure Removal, SEA ES/SR 08-106 | Eugene Island, Block 287, Lease OCS-G 01979, located 69 miles from the nearest Louisiana shoreline | 8/30/2010
GOM Shelf LLC, Structure Removal, SEA ES/SR 09-091 | High Island, Block A 323, Lease OCS-G 02414, located 105 miles from the nearest Texas shoreline | 8/30/2010
Gryphon Exploration Company, Structure Removal, SEA ES/SR 10-114 | Mustang Island, Block 804, Lease OCS-G 26442, located 25 miles from the nearest Texas shoreline | 8/30/2010
Dynamic Offshore Resources NS, LLC, Structure Removal, SEA ES/SR 10-116 | Vermilion, Block 161, Lease OCS-G 01127, located 49 miles from the nearest Louisiana shoreline | 8/31/2010
Stone Energy Corporation, Structure Removal, SEA ES/SR 10-131 | Ship Shoal, Block 118, Lease OCS 00068, located 16 miles from the nearest Louisiana shoreline | 9/2/2010
Stone Energy Corporation, Structure Removal, SEA ES/SR 10-132 & 10-133 | Ship Shoal, Block 119, Lease OCS 00069, 14-16 miles from the nearest Louisiana shoreline | 9/2/2010
Stone Energy Corporation, Structure Removal, SEA ES/SR 10-124, 10-125 & 10-126 | Ship Shoal, Block 113, Lease OCS 00067, located 18 miles from the nearest Louisiana shoreline | 9/10/2010
Maritech Resources, Inc., Structure Removal, SEA ES/SR 10-115 | Ship Shoal, Block 268, Lease OCS-G 07757, located 52 miles from the nearest Louisiana shoreline | 9/10/2010
Chevron U.S.A. Inc., Structure Removal, SEA ES/SR 10-122 | South Timbalier, Block 24, Lease OCS 00387, located 6 miles from the nearest Louisiana shoreline | 9/13/2010
Transcontinental Gas Pipe Line Company, LLC, Structure Removal, SEA ES/SR 10-113 | Vermilion, Block 77, Right-of-Way No. 00701, located 21 from the nearest Louisiana shoreline | 9/13/2010
McMoRan Oil & Gas LLC, Structure Removal, SEA ES/SR 10-104 | Grand Isle, Block 103, Lease OCS-G 21125, located 45 miles from the nearest Louisiana shoreline | 9/15/2010
Mariner Energy, Inc., Structure Removal, SEA ES/SR 10-141 | Matagorda Island, Block 618, Lease OCS-G 07201, located 20 miles from the nearest Texas shoreline | 9/15/2010
W & T Offshore, Inc., Structure Removal, SEA ES/SR 10-143 | Ship Shoal, Block 028, Lease OCS 00346, located 7 miles from the nearest Louisiana shoreline | 9/15/2010
W & T Offshore, Inc., Structure Removal, SEA ES/SR 10-142 | Ship Shoal, Block 94, Lease OCS-G 23891, located 17 miles from the nearest Louisiana shoreline | 9/15/2010
Tennessee Gas Pipeline Company, Structure Removal, SEA ES/SR 10-138 | Eugene Island, Block 250, Right-of-Way OCS-G 01687F, located 82 miles from the nearest Louisiana shoreline | 9/16/2010
NCX Company, L.L.C., Structure Removal, SEA ES/SR 07-009A | Eugene Island, Block 349, Lease OCS-G 02322, located 82 miles from the nearest Louisiana shoreline | 9/16/2010
Pyramid GOM, Inc., Structure Removal, SEA ES/SR 10-149 | High Island, Block 135, Lease OCS 00741, located 25 miles from the nearest Texas shoreline | 9/16/2010
Callon Petroleum Operating Company, Structure Removal, SEA ES/SR 10-117 & 10-118 | Ship Shoal, Block 35, Lease OCS-G 22691, located 20 miles from the nearest Louisiana shoreline | 9/16/2010
Pyramid GOM, Inc., Structure Removal, SEA ES/SR 10-148 | High Island, Block 136, Lease 00742, located 25 miles from the nearest Texas shoreline | 9/20/2010
Pyramid GOM, Inc., Structure Removal, SEA ES/SR 10-146 | High Island, Block 136, Lease OCS 00742, located 25 miles from the nearest Texas shoreline | 9/20/2010
BP Exploration & Production Inc., Structure Removal, SEA ES/SR 10-139 | High Island, Block A-119, Lease OCS-G 26519, located 52 miles from the nearest Louisiana shoreline | 9/20/2010
Pyramid GOM, Inc., Structure Removal, SEA ES/SR 10-145 & 10-147 | High Island, Block 161, Lease OCS 00744, located 27 miles from the nearest Texas shoreline | 9/21/2010
Nippon Oil Exploration U.S.A. Limited, Structure Removal, SEA ES/SR 10-134 | Eugene Island, Block 177, Lease OCS-G 22667, located 27 miles from the nearest Louisiana shoreline | 9/22/2010
W & T Offshore, Inc., Structure Removal, SEA ES/SR 10-144 | Ship Shoal, Block 029, Lease OCS 00345, located 7 miles from the nearest Louisiana shoreline | 9/22/2010
Nippon Oil Exploration U.S.A. Limited, Structure Removal, SEA ES/SR 10-135 | South Marsh Island, Block 235, Lease OCS-G 02300, located 14 miles from the nearest Louisiana shoreline | 9/22/2010
McMoRan Oil & Gas LLC, Structure Removal, SEA ES/SR 96-107A, 10-073A & 10-120 | West Cameron, Block 118, Lease OCS 00757, located 18 miles from the nearest Louisiana shoreline | 9/23/2010
Chevron U.S.A. Inc., Structure Removal, SEA ES/SR 10-150 | South Marsh Island, Block 218, Lease OCS 00310, located 8 miles from the nearest Louisiana shoreline | 9/26/2010
Stone Energy Corporation, Structure Removal, SEA ES/SR 10-127, 10-128, 10-129 & 10-130 | Ship Shoal, Block 93, Lease OCS 00063, located 10 miles from the nearest Louisiana shoreline | 9/27/2010
Chevron U.S.A. Inc., Structure Removal, SEA ES/SR 10-156 | South Marsh, Block 241, Lease OCS 00310, located 13 miles from the nearest Louisiana shoreline | 9/30/2010

Persons interested in reviewing environmental documents for the proposals listed above or obtaining information about SEAs and FONSIs prepared by the Gulf of Mexico OCS Region are encouraged to contact BOEMRE at the address or telephone listed in the FOR FURTHER INFORMATION section.

Dated: February 16, 2011.
Lars Herbst,
Regional Director, Gulf of Mexico OCS Region.

[FR Doc. 2011-4756 Filed 3-2-11; 8:45 am]

BILLING CODE 4310-MR-P